DEPARTMENT OF DEFENSE

Department of the Army, Corps of Engineers

[COE-2024-0004]

Thomas R. Carper Water Resources Development Act of 2024; Notice of Comment Period Extension

AGENCY: U.S. Army Corps of Engineers, Department of the Army, Department of Defense.

ACTION: Request for comments; extension of comment period.

SUMMARY: On February 27, 2025, the Office of the Assistant Secretary of the Army for Civil Works (OASA(CW)) published a notice in the Federal Register seeking public comment on any provisions in the Thomas R. Carper Water Resources Development Act (WRDA) of 2024. The OASA(CW) invited the public to submit written comments on the development and issuance of guidance to implement WRDA 2024 during a 60-day public comment period ending on April 28, 2025. Due to an outage with the General Services Administration eRulemaking services from April 25 through April 28, 2025, the OASA(CW) is extending the public comment period by 2 days.

DATES: The comment period for the notice published February 27, 2025 at 90 FR 10818 is extended. Submit comments by April 30, 2025.

ADDRESSES: You may submit written comments, identified by Docket ID No. COE-2024-0004, by any of the following methods: Federal eRulemaking Portal: https://www.regulations.gov/. Follow the online instructions for submitting comments.

Email: WRDA2024@usace.army.mil. Include Docket ID No. COE-2024-0004 in the subject line of the message.

Mail: U.S. Army Corps of Engineers, ATTN: Ms. Amy Frantz, CEW-P, U.S. Army Corps of Engineers, 3F91, 441 G St NW, Washington, DC 20314.

Hand Delivery/Courier: Due to security requirements, we cannot receive comments by hand delivery or courier. Comments received may be posted without change to https://www.regulations.gov/, including any personal information provided.

FOR FURTHER INFORMATION CONTACT: All requests for further information on the notice may be directed to Ms. Lauren Leuck, OASA(CW), at 703-839-0383 or lauren.d.leuck.civ@army.mil.

SUPPLEMENTARY INFORMATION: This comment period regarding WRDA 2024 (Pub. L. 118-272) is being conducted in accordance with section 1105 of the Water Resources Development Act of 2018 (Pub. L. 115-270). A copy of WRDA 2024 can be found at the publicly accessible website: https://www.usace.army.mil/Missions/Civil-Works/Water-Resources-Development-Act/. Final written guidance will be available to the public on the same website.

D. Lee Forsgren,
Acting Assistant Secretary of the Army for Civil Works.

[FR Doc. 2025-07022 Filed 4-22-25; 8:45 am]

BILLING CODE 3720-58-P